FEDERAL COMMUNICATIONS COMMISSION

Public Information Collections Approved by Office of Management and Budget

May 5, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission (202) 418-1379.

Federal Communications Commission

OMB Control No.: 3060-0737.

Expiration Date: 03/31/2003.

Title: Disclosure Requirements for Information Services Provided Under a Presubscription of Comparable Arrangement.

Form No.: N/A.

Respondents: Business or other for profit.

Estimated Annual Burden: 1,000 respondents; 5 hours per response (avg.); 5,000 total annual burden hours for this collection.

Estimated Annual Reporting and Recordkeeping Cost Burden: $0.

Frequency of Response: On occasion; Third Party Disclosure.

Description: Section 228 of the Communications Act of 1934, as amended, implements rules governing common carriers' transmission of and billing and collection for interstate pay-per-call and other information services. The statutory requirements are codified in Part 64 of the Commission's rules. Pursuant to Section 64.1501(b), presubscription is a contractual agreement between an informed consumer and an information provider for the purchase of information services. Under Section 64.1501(b), an information provider must disclose the following information to a consumer to establish a valid presubscription arrangement: “all material terms and conditions associated with the use of the service, including the service provider's name and address, a business telephone number which the consumer may use to obtain additional information or to register a complaint, and the rates for the service,* * * any future rate changes, * * * [and] an identification number or other means to prevent unauthorized access to the service by nonsubscribers * * * ” 47 CFR 64.1501(b). All prescription arrangements must be executed in writing or, alternatively, through payment by direct remittance, prepaid account, or debit, credit, charge, or calling card. The purpose of the information collection is to ensure that consumers receive enough information to make an informed decision whether to subscribe to an information service.

The Commission believes that past acts of widespread deception and abuse involving provision of information services, warrant safeguards such as these to guard against future efforts to evade federal pay-per-call regulations.

Obligation to Respond: Mandatory

Public burden for the collection is as noted above. Send comments regarding the burden estimate or any other aspect of the collections of information, including suggestions for reducing the burden to Performance Evaluation and Records Management, Washington, DC 20554.

Federal Communications Commission.
Magalie Roman Salas,
Secretary.

[FR Doc. 00-11975 Filed 5-11-00; 8:45 am]

BILLING CODE 6712-01-P